DEPARTMENT OF JUSTICE

[OMB 1140-0018]

Agency Information Collection Activities; Proposed eCollection eComments Requested; Revision of a Previously Approved Collection; Application for Federal Firearms License and Part B—Responsible Person Questionnaire—ATF Form 7 (5310.12)/7CR (5310.16)

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until August 11, 2023.

FOR FURTHER INFORMATION CONTACT: If you have additional comments especially on the estimated public burden or associated response time, suggestions, or need a copy of the proposed information collection instrument with instructions or additional information, contact: Leslie Anderson, ATF-FFLC, either by mail at 244 Needy Road, Martinsburg, WV 25405, by email at Leslie.anderson@atf.gov, or telephone at 304-616-4634.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Section 922 of chapter 44 of title 18 requires persons wishing to be licensed to complete ATF Form 7 (5310.12A)/7CR (5310.16) and for persons wishing to be added as a responsible person to complete Part B of ATF Form 7 (5310.12A)/7CR (5310.16) to certify compliance with provisions of the law for the FFL business. The information collection (IC) OMB #1140-0018 is being revised to include material and non-material changes to the form, such as formatting changes to include an added header (added “Part B—Responsible Person Questionnaire” to the top of the page), spelling corrections, added verbiage, added references, grammatical changes (sentence rephrasing/statement modification), and updated definitions. There is also an increase in the average total respondents and responses from 13,000 per year to 25,000 per year, since the last renewal in 2020. Consequentially, the total annual burden hours have increased by 12,000 hours.

Overview of This Information Collection

1. Type of Information Collection: Revision of a previously approved collection.

2. The Title of the Form/Collection: Application for Federal Firearms License and Part B—Responsible Person Questionnaire.

3. The agency form number, if any, and the applicable component of the Department sponsoring the collection:

Form number: ATF Form 7 (5310.12)/7CR (5310.16).

Component: Bureau of Alcohol, Tobacco, Firearms and Explosives, U.S. Department of Justice.

4. Affected public who will be asked or required to respond, as well as the obligation to respond: Affected Public: Individuals or households, Private Sector—business or other for-profit. The obligation to respond is mandatory. The statutory requirements are implemented in section 922 of chapter 44 of title 18.

5. An estimate of the total number of respondents and the amount of time estimated for an average respondent to respond: An estimated 25,000 respondents will respond to this collection annually, and it will take each respondent approximately 1 hour to complete their responses.

6. An estimate of the total annual burden (in hours) associated with the collection: The estimated annual public burden associated with this collection is 25,000 hours, which is equal to 25,000 (total respondents) * 1 (# of response per respondent) * 1 (60 minutes).

7. An estimate of the total annual cost burden associated with the collection, if applicable: The annual cost burden associated with this collection has increased due to a change in the postal rate from $0.55 during the last renewal in 2020, to $0.63 in 2023. Consequently, the new public cost burden reported has also increased by $2,000 from $13,750 to $15,750.00, which is equal to .63 (mailing cost per respondent) * 25,000 (# of respondents).

Activity | Number of respondents | Frequency | Total annual responses | Time per response (hours) | Total annual burden (hours)
ATF Form 7 (5310.12)/7CR (5310.16) | 25,000 | 1/annually | 25,000 | 1 | 25,000

If additional information is required contact: John R. Carlson, Department Clearance Officer, United States Department of Justice, Justice Management Division, Policy and Planning Staff, Two Constitution Square, 145 N Street NE, 4W-218, Washington, DC.

Dated: June 6, 2023.
John Carlson,
Department Clearance Officer for PRA, U.S. Department of Justice.

[FR Doc. 2023-12398 Filed 6-9-23; 8:45 am]

BILLING CODE 4410-FY-P